DEPARTMENT OF THE INTERIOR

National Park Service

[2031-A053-409]

Draft Environmental Impact Statement for General Management Plan, Gulf Islands National Seashore, Florida and Mississippi

AGENCY: National Park Service, Interior

ACTION: Notice of Availability of the Draft General Management Plan and Environmental Impact Statement.

SUMMARY: Pursuant to the National Environmental Policy Act of 1969, 42 U.S.C. 4332(2)(C), the National Park Service (NPS) announces the availability of a Draft Environmental Impact Statement (DEIS) for the General Management Plan (GMP) for Gulf Islands National Seashore (seashore).

Consistent with NPS laws, regulations, and policies and the purpose of the seashore, the DEIS/GMP describes the NPS preferred alternative—Alternative 3—to guide the management of the seashore over the next 15 to 20 years. The preferred alternative incorporates various management prescriptions to ensure protection, access and enjoyment of the seashore's resources.

An up-to-date GMP is needed to address how visitors access and use the seashore and the facilities needed to support those uses, how resources are managed, and how the NPS manages its operations. Recent studies have enhanced the NPS's understanding of resources, resource threats, and visitor use in the seashore.

DATES: The NPS will accept comments from the public on the DEIS/GMP for at least 60 days, starting from the date the Environmental Protection Agency publishes the Notice of Availability and ending 3 to 4 weeks after public meetings conclude. The date, time, and location of the public meetings will be announced through the NPS Planning, Environment, and Public Comment (PEPC) Web site: http://parkplanning.nps.gov/GUIS and media outlets.

ADDRESSES: Electronic copies of the draft DEIS/GMP will be available online at http://parkplanning.nps.gov/GUIS. To request a copy, contact Gulf Islands National Seashore Superintendent Daniel R. Brown, 1801 Gulf Breeze Parkway, Gulf Breeze, FL 32563.

Comments may be submitted by several methods. The preferred method is commenting via the internet on the PEPC Web site above. An electronic public comment form is provided on this website. You may also mail comments to Superintendent, 1801 Gulf Breeze Parkway, Gulf Breeze, FL 32563. Finally, you may hand-deliver comments to the seashore. Before including your address, phone number, e-mail address, or other personal identifying information in your comment, please be aware that your entire comment—including your personal identifying information—may be made publicly available at any time. While you can ask us in your comment to withhold your personal identifying information from public review, we cannot guarantee that we will be able to do so. We will always make submissions from organizations or businesses, and from individuals identifying themselves as representatives of or officials of organizations or businesses, available for public inspection in their entirety. A limited number of compact disks and printed copies of the DEIS/GMP will be made available at Gulf Islands National Seashore headquarters, 1801 Gulf Breeze Parkway, Gulf Breeze, FL 32563.

SUPPLEMENTARY INFORMATION: Public meetings, newsletters, and internet updates have kept the public informed and involved throughout the planning process. The DEIS/GMP provides a framework for management, use, and development of the seashore for the next 15 to 20 years. It presents and analyzes four alternatives: Alternative 1 (no action) provides a baseline for evaluating changes and impacts of the four action alternatives. Alternative 2 would reduce the level of infrastructure rebuilt on the barrier islands and allow natural processes to predominate. Alternative 3 is the NPS Preferred Alternative. The concept for management under alternative 3 is to enhance visitor education, research, and resource protection opportunities. The seashore would be managed as an outdoor classroom for exploring the natural and human history of the Gulf of Mexico's barrier islands and coastal environments. Interpretive programs would focus on illustrating how barrier islands act as protectors of the mainland coastline, and the part these islands have played in the last 5,000 years of historic human occupation. Alternative 4 would expand and diversify visitor opportunities throughout the seashore by leveraging additional partnerships. The four alternatives are described in detail in chapter 2 of the draft plan. The key impacts of implementing the four alternatives are detailed in chapter 4 and summarized in chapter 2.

Authority: The authority for publishing this notice is contained in 40 CFR 1506.6.

FOR FURTHER INFORMATION CONTACT: Superintendent Daniel R. Brown, 1801 Gulf Breeze Parkway, Gulf Breeze, FL 32563 or telephone at (850) 934-2600.

The responsible official for this Draft EIS is the Regional Director, NPS Southeast Region, 100 Alabama Street SW., 1924 Building, Atlanta, Georgia 30303.

Dated: August 24, 2011.
Gordon Wissinger,
Acting Regional Director, Southeast Region.

[FR Doc. 2011-22589 Filed 9-2-11; 8:45 am]

BILLING CODE 4310-X8-P